DEPARTMENT OF THE DEFENSE

Department of the Army, Corps of Engineers

Cancellation of the Notice of Intent To Prepare a Draft Supplement to the Environmental Impact Statement (D-SEIS) for the Kennedy Bechara Segment of the Rio Puerto Nuevo Flood Control Project in Guaynabo and San Juan, Puerto Rico

AGENCY: U.S. Army Corps of Engineers, DoD.

ACTION: Cancellation notice.

SUMMARY: The Jacksonville District, U.S. Army Corps of Engineers hereby cancels its Notice of Intent to prepare a Draft Supplement to the Environmental Impact Statement for the Rio Puerto Nuevo Flood Control Project, Kennedy-Bechara segment, as published in the Federal Register (Vol. 64, No. 174), Thursday, September 9, 1999, page 48995. Additional information concerning the cancellation is contained in the Supplementary Information paragraph indicated below.

FOR FURTHER INFORMATION CONTACT: Questions can be forwarded to Mr. Elmar G. Kurzbach, Environmental Branch, Planning Division, Jacksonville District, Corps of Engineers, Post Office Box 4970, Jacksonville, Florida 32232-0019, Phone: (904)-232-2325.

SUPPLEMENTARY INFORMATION: The Notice is cancelled because, after scoping for the proposed Supplement was completed, no new issues were raised; no request was received for public meetings, and comments were received only from environmental and resource agencies. All substantive comments made reference primarily to adverse impacts on wetlands of the flood mitigation alternatives then under consideration, all of which would have used a wetland (mangrove) parcel for disposal of excavated material to a greater or lesser degree. Federal and Commonwealth of Puerto Rico resource agencies, including the project co-sponsor, Department of Natural and Environmental Resources, stated that using remnant wetlands for disposal of excavated material was unacceptable. Consequently, the preferred alternative has been revised to allow excavated material to be deposited upon uplands. With the resolution of this issue, the remaining wetlands footprint of the preferred alternative is less than that of the base plan previously coordinated under the National Environmental Policy Act in 1984 and 1993.

An Environmental Assessment will be prepared and coordinated for the proposed action. This document is expected to be available in approximately one month.

Gregory D. Showalter,
Army Federal Register Liaison Officer.

[FR Doc. 00-6341 Filed 3-14-00; 8:45 am]

BILLING CODE 3710-AJ-M